NUCLEAR REGULATORY COMMISSION

System Energy Resources, Inc.; Notice of Receipt and Availability of Early Site Permit Application for the Grand Gulf ESP Site

On October 21, 2003, the Nuclear Regulatory Commission (NRC, the Commission) received an early site permit (ESP) application dated October 16, 2003, from System Energy Resources, Inc., a subsidiary of Entergy Corporation, filed pursuant to section 103 of the Atomic Energy Act and 10 CFR part 52. The site selected for the application is property co-located with the Grand Gulf Nuclear Station near Port Gibson, Mississippi and is identified as the Grand Gulf ESP site.

An applicant may seek an ESP in accordance with subpart A of 10 CFR part 52 separate from the filing of an application for a construction permit (CP) or combined license (COL) for a nuclear power facility. The ESP process allows resolution of issues relating to siting. At any time during the period of an ESP (up to 20 years), the permit holder may reference the permit in an application for a CP or COL.

Subsequent Federal Register notices will address the acceptability of the tendered ESP application for docketing and provisions for participation of the public and other parties in the ESP review process.

A copy of the application is available for public inspection at the Commission's Public Document Room (PDR), located at One White Flint North, 11555 Rockville Pike (first floor), Rockville, Maryland and via the Agencywide Documents Access and Management System (ADAMS) Public Electronic Reading Room on the Internet at the NRC Web site, http://www.nrc.gov/reading-rm/adams.html. The accession number for the application is ML032960315. Future publicly available documents related to the application will also be posted in ADAMS. Persons who do not have access to ADAMS or who encounter problems in accessing the documents located in ADAMS should contact the NRC Public Document Room staff by telephone at 1-800-397-4209 or 301-415-4737, or by e-mail to pdr@nrc.gov.

The application is also available to local residents at the Harriette Person Memorial Library in Port Gibson, Mississippi, and it will be available on the NRC web page at http://www.nrc.gov/reactors/new-licensing/license-reviews/esp.html.

Dated at Rockville, Maryland, this 7th day of November 2003.
For the Nuclear Regulatory Commission.
James E. Lyons,
Program Director, New, Research and Test Reactors Program, Division of Regulatory Improvement Programs, Office of Nuclear Reactor Regulation.

[FR Doc. 03-28497 Filed 11-13-03; 8:45 am]

BILLING CODE 7590-01-P